DEPARTMENT OF JUSTICE

[OMB Number 1110-NEW]

Agency Information Collection Activities: Proposed Collection, Comments Requested; Notice of Collection of Information Relative to Threats of Explosive Device Violence at Institutions of Higher Education

ACTION: Emergency 60-day Notice.

The Department of Justice, Federal Bureau of Investigation (FBI), National Center for the Analysis of Violent Crime (NCAVC), will be submitting the following information collection request to the Office of Management and Budget (OMB) for review and clearance in accordance with established review procedures of the Paperwork Reduction Act of 1995. The proposed information collection is published to obtain comments from the public and affected agencies. Comments are encouraged and will be accepted until 12/5/2012. This process is conducted in accordance with 5 CFR 1320.10.

All comments, suggestions, or questions regarding additional information, to include obtaining a copy of the proposed information collection instrument with instructions, should be directed to Andre Simons, Federal Bureau of Investigation, NCAVC, Critical Incident Response Group, FBI Academy, 1 Range Road, Quantico, Virginia, 22135.Written comments and suggestions from the public and affected agencies concerning the proposed collection of information are encouraged. Comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Overview of This Information Collection

(1) Type of information collection: Emergency notice: Identify bomb-related incidents (including hoax devices and threats where no device was involved) occurring at institutions of higher education (IHE), and how each IHE has responded to these incidents.

(2) The title of the form/collection: Institution of Higher Education Bomb Threat/Incident Survey

(3) The agency form number, if any, and the applicable component of the department sponsoring the collection: N/A

(4) Affected public who will be asked or required to respond, as well as a brief abstract: IHE law enforcement or campus safety agencies.

(5) An estimate of the total number of respondents and the amount of time estimated for an average respondent to respond: It is estimated that 1200 respondents will be contacted to complete a survey consisting of 19 questions. It is estimated that a burden of approximately 20 to 60 minutes will be cast upon each respondent to complete the survey. However, this estimated burden will depend on individualized data retrieval systems, availability of requested data, and other variables that could not be estimated via sample testing.

(6) An estimate of the total public burden (in hours) associated with this collection: There are approximately 24,000 to 72,000 burden minutes associated with this information collection.

If additional information is required contact: Jerri Murray, Department Clearance Officer, Policy and Planning Staff, Justice Management Division, United States Department of Justice, Two Constitution Square, 145 N Street NE., Room 3W-1407B, NW., Washington, DC 20530.

Dated: November 20, 2012.
Jerri Murray,
Department Clearance Officer for PRA, United States Department of Justice.

[FR Doc. 2012-28579 Filed 11-23-12; 8:45 am]

BILLING CODE 4410-02-P